DEPARTMENT OF LABOR

Employment and Training Administration

[TA-W-65,496]

Ovonic Energy Products, Inc., Springboro, OH; Notice of Termination of Investigation

Pursuant to Section 221 of the Trade Act of 1974, as amended, an investigation was initiated on March 5, 2009, in response to a petition filed by the union on behalf of workers at Ovonic Energy Products, Inc., Springboro, Ohio.

The petitioner has requested that the petition be withdrawn. Consequently, the investigation has been terminated.

Signed at Washington, DC, this 1st day of May 2009.
Elliott S. Kushner,
Certifying Officer, Division of Trade Adjustment Assistance.

[FR Doc. E9-13444 Filed 6-8-09; 8:45 am]

BILLING CODE 4510-FN-P